DEPARTMENT OF COMMERCE

National Oceanic and Atmospheric Administration

Notice of Designation of the Connecticut National Estuarine Research Reserve

AGENCY: Office for Coastal Management (OCM), National Ocean Service (NOS), National Oceanic and Atmospheric Administration (NOAA), U.S. Department of Commerce.

ACTION: Notice of designation; notice of availability.

SUMMARY: Notice is hereby given that, pursuant to the Coastal Zone Management Act (CZMA), the National Oceanic and Atmospheric Administration (NOAA) Office for Coastal Management has designated certain Connecticut state-owned lands and portions of public trust waters of the Long Island Sound, Fishers Island Sound, Connecticut River, and Thames River as the Connecticut National Estuarine Research Reserve (Connecticut Reserve). On January 11, 2022, the Under Secretary of Commerce for Oceans and Atmosphere, Dr. Richard W. Spinrad, signed a Record of Decision pursuant to the National Environmental Policy Act and the findings of designation for the Connecticut Reserve pursuant to Section 315 of the CZMA and its implementing regulations. A copy of the Record of Decision and the findings of designation are available for public review from NOAA's Office for Coastal Management at coast.noaa.gov/czm/compliance. Additionally, NOAA hereby provides notice of the results of the consistency determination for the designation of the Connecticut Reserve.

FOR FURTHER INFORMATION CONTACT: Erica Seiden, Office for Coastal Management, National Ocean Service, NOAA, 1305 East-West Highway, N/OCM, Silver Spring, Maryland 20910; Phone: (202) 607-5232; or Email: erica.seiden@noaa.gov.

SUPPLEMENTARY INFORMATION: The National Estuarine Research Reserve System (reserve system) is a federal-state partnership administered by NOAA. The reserve system protects more than 1.3 million acres of estuarine habitat for long-term research, monitoring, education, and stewardship throughout the coastal United States. Established by the Coastal Zone Management Act of 1972, as amended (16 U.S.C. 1451 et seq.), each reserve is managed by a lead state agency or university, with input from local partners. NOAA provides funding and national programmatic guidance to the reserve system.

NOAA received the State of Connecticut's nomination of the proposed Connecticut Reserve site on January 3, 2019. NOAA evaluated the nomination package and found that the proposed site met the reserve system requirements for designation. (See 16 U.S.C. 1461(b).) Accordingly, NOAA informed the State of Connecticut on September 27, 2019, that it was accepting the nomination and that the next step would be to prepare a Draft Environmental Impact Statement and Draft Management Plan. (See 15 CFR 921.13.) On June 1, 2020, NOAA issued a notice of intent to prepare a Draft Environmental Impact Statement and Draft Management Plan for the proposed Connecticut Reserve (85 FR 33123). On July 17, 2020, NOAA issued a notice of a public scoping meeting to solicit input on the Draft Environmental Impact statement (85 FR 43543). On September 3, 2021, NOAA issued notice of public hearings and a 45-day public comment period for the Draft Environmental Impact Statement and Draft Management Plan for the proposed designation of the Connecticut Reserve (86 FR 49519). NOAA has included responses to the relevant written and oral comments it received on the adequacy of the draft environmental impact statement and draft management plan in Appendix B of the Final Environmental Impact Statement. The Final Environmental Impact Statement and Final Management Plan for the proposed Connecticut Reserve were published on December 3, 2021 (86 FR 68661). For more information about the Connecticut Reserve, including the reserve's Final Management Plan, see the reserve's web page: coast.noaa.gov/nerrs/reserves/connecticut.html.

The implementing regulations (40 CFR parts 1500-1508) for the National Environmental Policy Act of 1969, as amended (42 U.S.C. 4321 et seq.), require agencies to publish a public Record of Decision identifying alternatives considered by the agencies in reaching their decision and specifying the environmentally preferable alternative (40 CFR 1505.2). Furthermore, pursuant to the CZMA's implementing regulations for the reserve system, NOAA is required to provide notice in the Federal Register of the results of the consistency determination for the proposed designation of a National Estuarine Research Reserve in states with federally-approved coastal zone management programs (15 CFR 921.30).

Pursuant to these requirements, NOAA has published a Record of Decision in accordance with the National Environmental Policy Act, which can be found at coast.noaa.gov/czm/compliance. Furthermore, NOAA hereby provides notice of the results of the consistency determination for the Connecticut Reserve: NOAA submitted the consistency determination to the State of Connecticut on September 8, 2021, in accordance with the requirements of Section 307 of the Coastal Zone Management Act (16 U.S.C. 1456), and the State of Connecticut concurred on October 27, 2021.

For more detailed information on the designation process, see the Connecticut Department of Energy and Environmental Protection's Connecticut National Estuarine Research Reserve website: portal.ct.gov/DEEP/Coastal-Resources/NERR/NERR-Home-Page.

Authority: 16 U.S.C. 1451 et seq.; 42 U.S.C. 4321 et seq.

Jeffrey L. Payne,
Director, Office for Coastal Management, National Ocean Service, National Oceanic and Atmospheric Administration.

[FR Doc. 2022-00734 Filed 1-13-22; 8:45 am]

BILLING CODE 3510-JE-P